DEPARTMENT OF COMMERCE

International Trade Administration

[A-428-850, A-588-880, A-580-911, A-469-824]

Thermal Paper From Germany, Japan, the Republic of Korea, and Spain: Antidumping Duty Orders

AGENCY: Enforcement and Compliance, International Trade Administration, Department of Commerce.

SUMMARY: Based on affirmative final determinations by the Department of Commerce (Commerce) and the International Trade Commission (ITC), Commerce is issuing antidumping duty orders on thermal paper from Germany, Japan, the Republic of Korea (Korea), and Spain.

DATES: Applicable November 22, 2021.

FOR FURTHER INFORMATION CONTACT: David Goldberger at (202) 482-4136 (Germany); Paul Litwin at (202) 482-6002 (Japan); Kristen Ju at (202) 482-3699 (Korea); Abdul Alnoor at (202) 482-4554 (Spain); AD/CVD Operations, Enforcement and Compliance, International Trade Administration, U.S. Department of Commerce, 1401 Constitution Avenue NW, Washington, DC 20230.

SUPPLEMENTARY INFORMATION:

Background

On September 30, 2021, Commerce published its affirmative final determinations in the less-than-fair-value (LTFV) investigations of thermal paper from Germany, Japan, Korea, and Spain.¹ On November 15, 2021, the ITC notified Commerce of its final determinations, pursuant to section 735(d) of the Tariff Act of 1930, as amended (the Act), that an industry in the United States is materially injured within the meaning of section 735(b)(1)(A)(i) of the Act by reason of LTFV imports of thermal paper from Germany, Japan, Korea, and Spain and its negative critical circumstances finding with respect to dumped imports of thermal paper from Germany and Korea.²

¹ See Thermal Paper from Germany: Final Affirmative Determination of Sales at Less Than Fair Value and Final Affirmative Determination of Critical Circumstances, in Part, 86 FR 54152 (September 30, 2021); see also Thermal Paper from Japan: Final Affirmative Determination of Sales at Less Than Fair Value, 86 FR 54157 (September 30, 2021); Thermal Paper from the Republic of Korea: Final Affirmative Determination of Sales at Less Than Fair Value and Final Affirmative Determination of Critical Circumstances, 86 FR 54154 (September 30, 2021); and Thermal Paper from Spain: Final Determination of Sales at Less Than Fair Value, 86 FR 54162 (September 30, 2021).

² See ITC Letter, “Notification of ITC Final Determinations in Investigation Nos. 731-TA-1546-1549 (Final),” dated November 15, 2021.

Scope of the Orders

The product covered by these orders is thermal paper from Germany, Japan, Korea, and Spain. For a complete description of the scope of these orders, see the appendix to this notice.

Antidumping Duty Orders

On November 15, 2021, in accordance with section 735(d) of the Act, the ITC notified Commerce of its final determinations in these investigations, in which it found that an industry in the United States is materially injured within the meaning of section 735(b)(1)(A)(i) of the Act by reason of imports of thermal paper from Germany, Japan, Korea, and Spain.³ Therefore, in accordance with section 735(c)(2) of the Act, Commerce is issuing these antidumping duty orders. Because the ITC determined that imports of thermal paper from Germany, Japan, Korea, and Spain are materially injuring a U.S. industry, unliquidated entries of such merchandise from Germany, Japan, Korea, and Spain, entered or withdrawn from warehouse for consumption, are subject to the assessment of antidumping duties.

³ Id.

Therefore, in accordance with section 736(a)(1) of the Act, Commerce will direct U.S. Customs and Border Protection (CBP) to assess, upon further instruction by Commerce, antidumping duties equal to the amount by which the normal value of the merchandise exceeds the export price (or constructed export price) of the merchandise, for all relevant entries of thermal paper from Germany, Japan, Korea, and Spain. With the exception of entries occurring after the expiration of the provisional measures period and before publication of the ITC's final affirmative injury determinations, as further described below, antidumping duties will be assessed on unliquidated entries of thermal paper from Germany, Japan, Korea, and Spain entered, or withdrawn from warehouse, for consumption, on or after May 12, 2021, the date of publication of the Preliminary Determinations.⁴

⁴ See Thermal Paper from Germany: Preliminary Affirmative Determination of Sales at Less Than Fair Value, Preliminary Affirmative Determination of Critical Circumstances, in Part, Postponement of Final Determination, and Extension of Provisional Measures, 86 FR 26001 (May 12, 2021); see also Thermal Paper from the Republic of Japan: Preliminary Affirmative Determination of Sales at Less Than Fair Value, Postponement of Final Determination, and Extension of Provisional Measures, 86 FR 26011 (May 12, 2021); Thermal Paper from the Republic of Korea: Preliminary Affirmative Determination of Sales at Less Than Fair Value, Preliminary Affirmative Determination of Critical Circumstances, Postponement of Final Determination, and Extension of Provisional Measures, 86 FR 26007 (May 12, 2021); and Thermal Paper from Spain: Preliminary Affirmative Determination of Sales at Less Than Fair Value, Postponement of Final Determination, and Extension of Provisional Measures, 86 FR 26003 (May 12, 2021) (collectively, Preliminary Determinations).

Continuation of Suspension of Liquidation

In accordance with section 736 of the Act, Commerce intends to instruct CBP to continue to suspend liquidation on all relevant entries of thermal paper from Germany, Japan, Korea, and Spain. These instructions suspending liquidation will remain in effect until further notice.

Commerce also intends to instruct CBP to require cash deposits equal to the estimated weighted-average dumping margins indicated in the tables below. Accordingly, effective on the date of publication in the Federal Register of the notice of the ITC's final affirmative injury determinations, CBP will require, at the same time as importers would normally deposit estimated duties on subject merchandise, a cash deposit equal to the rates listed below. The relevant all-others rate applies to all producers or exporters not specifically listed.

Critical Circumstances

With regard to the ITC's negative critical circumstances determination on imports of thermal paper from Germany and Korea, we intend to instruct CBP to lift suspension and to refund any cash deposits made to secure the payment of estimated antidumping duties with respect to entries of the subject merchandise entered, or withdrawn from warehouse, for consumption on or after February 11, 2021, (i.e., 90 days prior to the date of the publication of the Preliminary Determinations) but before May 12, 2021 (i.e., the date of publication of the Preliminary Determinations).

Provisional Measures

Section 733(d) of the Act states that suspension of liquidation pursuant to an affirmative preliminary determination may not remain in effect for more than four months, except where exporters representing a significant proportion of exports of the subject merchandise request that Commerce extend the four-month period to no more than six months. At the request of exporters that account for a significant proportion of thermal paper from Germany, Japan, Korea, and Spain, Commerce extended the four-month period to six months in each of these investigations. Commerce published the preliminary determinations in these investigations on May 12, 2021.⁵

⁵ See Preliminary Determinations.

The extended provisional measures period, beginning on the date of publication of the Preliminary Determinations, ended on November 7, 2021. Therefore, in accordance with section 733(d) of the Act, Commerce intends to instruct CBP to terminate the suspension of liquidation and to liquidate, without regard to antidumping duties, unliquidated entries of thermal paper from Germany, Japan, Korea, and Spain entered, or withdrawn from warehouse, for consumption after November 7, 2021, the final day on which the provisional measures were in effect, until and through the day preceding the date of publication of the ITC's final affirmative injury determinations in the Federal Register. Suspension of liquidation and the collection of cash deposits will resume on the date of publication of the ITC's final determinations in the Federal Register.

Estimated Weighted-Average Dumping Margins

The estimated weighted-average dumping margins are as follows:

Exporter/producer | Estimated weighted-average dumping margin (percent)
Germany
Papierfabrik August Koehler SE | 2.90
All Others | 2.90
Japan
Nippon Paper Industries Co., Ltd./Nippon Paper Papylia Co., Ltd. | 140.25
All Others | 135.06
Korea
Hansol Paper Company | 6.19
All Others | 6.19
Spain
Torraspapel S.A. | 41.45
All Others | 37.07

Establishment of the Annual Inquiry Service List

On September 20, 2021, Commerce published the final rule titled “Regulations to Improve Administration and Enforcement of Antidumping and Countervailing Duty Laws” in the Federal Register.⁶ On September 27, 2021, Commerce also published the notice titled “Scope Ruling Application; Annual Inquiry Service List; and Informational Sessions” in the Federal Register.⁷ The Final Rule and Procedural Guidance provide that Commerce will maintain an annual inquiry service list for each order or suspended investigation, and any interested party submitting a scope ruling application or request for circumvention inquiry shall serve a copy of the application or request on the persons on the annual inquiry service list for that order, as well as any companion order covering the same merchandise from the same country of origin.⁸

⁶ See Regulations to Improve Administration and Enforcement of Antidumping and Countervailing Duty Laws, 86 FR 52300 (September 20, 2021) (Final Rule).

⁷ See Scope Ruling Application; Annual Inquiry Service List; and Informational Sessions, 86 FR 53205 (September 27, 2021) (Procedural Guidance).

⁸ Id.

In accordance with the Procedural Guidance, for orders published in the Federal Register after November 4, 2021, Commerce will create an annual inquiry service list segment in Commerce's online e-filing and document management system, Antidumping and Countervailing Duty Electronic Service System (ACCESS), available at https://access.trade.gov, within five business days of publication of the order. Each annual inquiry service list will be saved in ACCESS, under each case number, and under a specific segment type called “AISL-Annual Inquiry Service List.” ⁹

⁹ This segment will be combined with the ACCESS Segment Specific Information (SSI) field, which will display the month in which the notice of the order or suspended investigation was published in the Federal Register, also known as the anniversary month. For example, for an order under case number A-000-000 that was published in the Federal Register in January, the relevant segment and SSI combination will appear in ACCESS as “AISL-January Anniversary.” Note that there will be only one annual inquiry service list segment per case number, and the anniversary month will be pre-populated in ACCESS.

Interested parties who wish to be added to the annual inquiry service list for an order must submit an entry of appearance to the annual inquiry service list segment for the order in ACCESS within 30 days after the date of publication of the order. For ease of administration, Commerce requests that law firms with more than one attorney representing interested parties in an order designate a lead attorney to be included on the annual inquiry service list. Commerce will finalize the annual inquiry service list within five business days thereafter. As mentioned in the Procedural Guidance, the new annual inquiry service list will be in place until the following year, when the Opportunity Notice for the anniversary month of the order is published.

Commerce may update an annual inquiry service list at any time as needed based on interested parties' amendments to their entries of appearance to remove or otherwise modify their list of members and representatives, or to update contact information. Any changes or announcements pertaining to these procedures will be posted to the ACCESS website at https://access.trade.gov.

Special Instructions for Petitioners and Foreign Governments

In the Final Rule, Commerce stated that, “after an initial request and placement on the annual inquiry service list, both petitioners and foreign governments will automatically be placed on the annual inquiry service list in the years that follow.” ¹⁰ Accordingly, as stated above, the petitioners and foreign governments should submit their initial entry of appearance after publication of this notice in order to appear in the first annual inquiry service list for those orders for which they qualify as an interested party. Pursuant to 19 CFR 351.225(n)(3), the petitioners and foreign governments will not need to resubmit their entries of appearance each year to continue to be included on the annual inquiry service list. However, the petitioners and foreign governments are responsible for making amendments to their entries of appearance during the annual update to the annual inquiry service list in accordance with the procedures described above.

¹⁰ See Final Rule, 86 FR at 52335.

Notification to Interested Parties

This notice constitutes the antidumping duty orders with respect to thermal paper from Germany, Japan, Korea, and Spain pursuant to section 736(a) of the Act. Interested parties can find a list of antidumping duty orders currently in effect at http://enforcement.trade.gov/stats/iastats1.html.

These antidumping duty orders are published in accordance with section 736(a) of the Act and 19 CFR 351.211(b).

Dated: November 16, 2021.
Ryan Majerus,
Deputy Assistant Secretary for Policy and Negotiations, performing the non-exclusive functions and duties of the Assistant Secretary for Enforcement and Compliance.

Appendix—Scope of the Orders

The scope of these orders covers thermal paper in the form of “jumbo rolls” and certain “converted rolls.” The scope covers jumbo rolls and converted rolls of thermal paper with or without a base coat (typically made of clay, latex, and/or plastic pigments, and/or like materials) on one or both sides; with thermal active coating(s) (typically made of sensitizer, dye, and co-reactant, and/or like materials) on one or both sides; with or without a top coat (typically made of pigments, polyvinyl alcohol, and/or like materials), and without an adhesive backing. Jumbo rolls are defined as rolls with an actual width of 4.5 inches or more, an actual weight of 65 pounds or more, and an actual diameter of 20 inches or more (jumbo rolls). All jumbo rolls are included in the scope regardless of the basis weight of the paper. Also included in the scope are “converted rolls” with an actual width of less than 4.5 inches, and with an actual basis weight of 70 grams per square meter (gsm) or less.

The scope of these orders covers thermal paper that is converted into rolls with an actual width of less than 4.5 inches and with an actual basis weight of 70 gsm or less in third countries from jumbo rolls produced in the subject countries.

The merchandise subject to these orders may be classified in the Harmonized Tariff Schedule of the United States (HTSUS) under subheadings 4811.90.8030 and 4811.90.9030. Although HTSUS subheadings are provided for convenience and customs purposes, the written description of the scope of these orders is dispositive.

[FR Doc. 2021-25365 Filed 11-19-21; 8:45 am]

BILLING CODE 3510-DS-P